DEPARTMENT OF JUSTICE

Antitrust Division

Notice Pursuant to the National Cooperative Research and Production Act of 1993—Z-Wave Alliance, Inc.

Notice is hereby given that, on March 22, 2022, pursuant to Section 6(a) of the National Cooperative Research and Production Act of 1993, 15 U.S.C. 4301 et seq. (“the Act”), Z-Wave Alliance, Inc. (“Z-Wave”) filed written notifications simultaneously with the Attorney General and the Federal Trade Commission disclosing changes in its membership and the name change of one of its existing members. The notifications were filed for the purpose of extending the Act's provisions limiting the recovery of antitrust plaintiffs to actual damages under specified circumstances.

Specifically, Lexi Devices, Inc., Oslo, NORWAY; Futurehome AS, Lighthouse Point, FL; Alarm Grid, Inc, Ashburn, VA; and Oy K1 Services Ab, Jakobstad, FINLAND have joined as parties to the venture.

Also, Digital Home Systems PTY LTD, Victoria, AUSTRALIA; EUROtronic Technology GmbH, Steinau-Ulmbach, GERMANY; LINDSEY Technical Solutions, Lakewood Ranch, FL; OOT Technologies Ltd., Siofok, HUNGARY; ACTE A/S, Broendby, DENMARK; Tronico Technology Company Limited, Shatin, N.T., HONG KONG-CHINA; Zhejiang TKB Technology Co., LTD, Yueqing, PEOPLE'S REPUBLIC OF CHINA; The Delaney Hardware Co., Cumming, GA; NEDECO Electronics LTD, Nicosia, CYPRUS; RG Nets, Inc., Reno, NV; Yas Electronics Systems, Sharjah, UNITED ARAB EMIRATES; and Nemlia sp/f, Torshavn, FAROE ISLANDS have withdrawn as parties to the venture.

In addition, an existing member, Black Nova Corp. Limited, changed its name to Black Nova Italia srl, Central, HONG KONG-CHINA.

No other changes have been made in either the membership or planned activity of the group research project. Membership in this group research project remains open, and Z-Wave intends to file additional written notifications disclosing all changes in membership.

On November 19, 2020, Z-Wave filed its original notification pursuant to Section 6(a) of the Act. The Department of Justice published a notice in the Federal Register pursuant to Section 6(b) of the Act on December 1, 2020 (85 FR 77241).

The last notification was filed with the Department on December 28, 2021. A notice was published in the Federal Register pursuant to Section 6(b) of the Act on March 11, 2022 (87 FR 14041).

Suzanne Morris,
Chief, Premerger and Division Statistics, Antitrust Division.

[FR Doc. 2022-10247 Filed 5-12-22; 8:45 am]

BILLING CODE 4410-11-P